DEPARTMENT OF ENERGY

Secretary of Energy Advisory Board; Meeting

AGENCY: Department of Energy.

ACTION: Notice of Open Meeting.

SUMMARY: This notice announces an open meeting of the Secretary of Energy Advisory Board (SEAB). The SEAB was reestablished pursuant to the Federal Advisory Committee Act. This notice is provided in accordance with the Act.

DATES: Tuesday, March 12, 2020; 2 p.m.-5 p.m.

ADDRESSES: The Rush Conference Center, Rice University, James A. Baker III Hall, 6100 Main Street, Houston, Texas 77005.

FOR FURTHER INFORMATION CONTACT: Kurt Heckman, Designated Federal Officer, U.S. Department of Energy, 1000 Independence Avenue SW, Washington, DC 20585; email: seab@hq.doe.gov.

SUPPLEMENTARY INFORMATION:

Background: The Board was established to provide advice and recommendations to the Secretary on the Administration's energy policies; the Department's basic and applied research and development activities; economic and national security policy; and other activities as directed by the Secretary.

Purpose of the Meeting: This meeting is the third meeting of existing and new members under Secretary Perry and Secretary Brouillette.

Tentative Agenda: The meeting will start at 2 p.m. on March 12th. The tentative meeting agenda includes: introduction of SEAB's members, briefings from the Innovation and Artificial Intelligence subcommittees, and an opportunity for comments from the public. The meeting will conclude at 5 p.m.

Public Participation: The meeting is open to the public. Individuals who would like to attend must RSVP to Kurt Heckman no later than 5 p.m. on Thursday, March 5, 2020, by email at: seab@hq.doe.gov.

Individuals and representatives of organizations who would like to offer comments and suggestions may do so during the meeting. Approximately 15 minutes will be reserved for public comments. Time allotted per speaker will depend on the number who wish to speak but will not exceed five minutes. The Designated Federal Officer is empowered to conduct the meeting in a fashion that will facilitate the orderly conduct of business. Those wishing to speak should register to do so via email, seab@hq.doe.gov, no later than 5 p.m. on Thursday, March 5, 2020.

Those not able to attend the meeting or who have insufficient time to address the committee are invited to send a written statement to Kurt Heckman, U.S. Department of Energy, 1000 Independence Avenue SW, Washington DC 20585, or email to: seab@hq.doe.gov.

Minutes: The minutes of the meeting will be available on the SEAB website or by contacting Mr. Heckman. He may be reached at the above postal address or email address, or by visiting SEAB's website at www.energy.gov/seab.

Signed in Washington, DC, on February 4, 2020.
LaTanya Butler,
Deputy Committee Management Officer.

[FR Doc. 2020-02555 Filed 2-7-20; 8:45 am]

BILLING CODE 6450-01-P